DEPARTMENT OF DEFENSE

Department of the Army

[Docket ID: USA-2014-0036]

Proposed Collection; Comment Request

AGENCY: Department of the Army, DoD.

ACTION: Notice.

SUMMARY: In compliance with the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of the Army, U.S. Army Corps of Engineers, Institute for Water Resources, Waterborne Commerce Statistics Center, P.O. Box 61280, New Orleans, LA 70161-1260, or call 703-428-6440.

SUPPLEMENTARY INFORMATION: Title; Associated Form; and OMB Number: Record of Arrivals and Departures of Vessels at Marine Terminals; ENG Form 3926; OMB Control Number 0710-0005.

Needs and Uses: The Corps of Engineers uses ENG Form 3926 in conjunction with ENG 3925, 3925B, 3925C, and 3925P as the basic source of input to conduct the Waterborne Commerce Statistics data collection program. The data are used to justify maintenance and improvements of Federal navigation projects and to produce annual tonnage and trip statistics for U.S. waterways and channels.

Affected Public: Business or other for profit.

Annual Burden Hours: 1,800.

Number of Respondents: 300.

Responses per Respondent: 12.

Average Burden per Response: 30 minutes.

Frequency: Monthly.

The Corps of Engineers uses ENG Form 3926 as a quality control instrument by comparing the data collected on the Corps Vessel Operation report with that collected on ENG Form 3926. The information is voluntarily submitted by the respondents to assist the Waterborne Commerce Statistics Center in the identification of vessel operators who fail to report significant vessel moves and tonnage. For example, this information is invaluable in documenting the movement of petroleum out of Valdez, Alaska, without the information furnished on the ENG Form 3926, millions of tons of petroleum would go unreported each year. Under-reporting results in increased difficulty justifying maintenance of Federal navigation channels.

Dated: September 23, 2014.
Aaron Siegel,
Alternate OSD Federal Register Liaison Officer, Department of Defense.

[FR Doc. 2014-23004 Filed 9-26-14; 8:45 am]

BILLING CODE 5001-06-P